ENVIRONMENTAL PROTECTION AGENCY

[EPA-HQ-OECA-2012-0978; FRL-8994-01-OECA]

Access by United States Environmental Protection Agency (EPA) Contractor and Subcontractors to Information Claimed as Confidential Business Information (CBI) Submitted Under Clean Air Act (CAA) and Act To Prevent Pollution From Ships (APPS)

AGENCY: Environmental Protection Agency (EPA).

ACTION: Notice.

SUMMARY: The United States Environmental Protection Agency's (EPA's) Office of Enforcement and Compliance Assurance (OECA) plans to authorize a contractor and several subcontractors to access information that will be submitted to the EPA under the Clean Air Act (CAA) and the Act to Prevent Pollution from Ships (APPS) that may be claimed as, or may be determined to be, confidential business information (CBI).

DATES: Comments must be received on or before September 28, 2021. The contractor's and subcontractors' access to information collected under the CAA and the APPS, will begin on September 29, 2021.

ADDRESSES: You may send comments, identified by Docket ID No. EPA HQ-OECA-2012-0978, by any of the following methods:

• Federal eRulemaking Portal: https://www.regulations.gov/ (our preferred method). Follow the online instructions for submitting comments.

• Email: docket.oeca@epa.gov. Include Docket ID No. EPA-HQ-OECA-2012-0978 in the subject line of the message.

Instructions: All submissions received must include the Docket ID No. for this rulemaking. Comments received may be posted without change to https://www.regulations.gov/, including any personal information provided.

FOR FURTHER INFORMATION CONTACT: Jeffrey Kimes, Air Enforcement Division, Office of Enforcement and Compliance Assurance (Mail Code 8MSU), Environmental Protection Agency, 1595 Wynkoop St., Denver, CO 80202; telephone number: (303) 312-6445; email address: kimes.jeffrey@epa.gov.

SUPPLEMENTARY INFORMATION:

I. Does this notice apply to me?

This action is directed to the general public. However, this action may be of particular interest to certain parties, including the following parties: owners and operators of stationary sources subject to the CAA including, but not limited to, State Implementation Plans (SIPs), hazardous air pollutants (HAPs, MACT Rules) under Section 112, permits including New Source Review and Prevention of Significant Deterioration (NSR/PSD), New Source Performance Standards (NSPS), and Prevention of Accidental Releases under Section 112(r); motor vehicle manufacturers and importers; engine manufacturers and importers; motor vehicle fuel and fuel additive producers and importers; manufacturers, importers, users and distributors of hydrofluorocarbons (HFCs); manufacturers, importers and distributors of motor vehicle and engine emission control equipment and parts; and any other parties subject to the regulations found in 40 CFR parts 52, 60, 63-80, 85, 86, 89-92, 94, 1033, 1036, 1037, 1039, 1042, 1043, 1045, 1048, 1051, 1054, 1060, 1065, 1068, and 1090.

This Federal Register notice may be of particular relevance to parties that have submitted data to the EPA under the above-listed regulations. Because other parties may also be interested, the EPA has not attempted to describe all the specific parties that may be affected by this action. If you have further questions regarding the applicability of this action to a particular party, please contact the person listed in FOR FURTHER INFORMATION CONTACT.

II. How can I get copies of this document and other related information?

A. Electronically

The EPA has established a public docket for this Federal Register notice under Docket ID No. EPA-HQ-OECA-2012-0978.

All documents in the docket are identified in the docket index available at http://www.regulations.gov. Although listed in the index, some information is not publicly available, such as CBI or other information for which disclosure is restricted by statute.

B. EPA Docket Center

The EPA is temporarily suspending its Docket Center and Reading Room for public visitors, with limited exceptions, to reduce the risk of transmitting COVID-19. Our Docket Center staff will continue to provide remote customer service via email, phone, and webform. For further information and updates on EPA Docket Center services, please visit us online at https://www.epa.gov/dockets.

III. Description of Programs and Potential Disclosure of Information Claimed as CBI to Contractor and Subcontractors

The EPA's OECA has responsibility for protecting public health and the environment by enforcing standards for air pollution. In order to implement various CAA and APPS programs, OECA collects compliance reports and other information from the regulated industry. Occasionally, the information submitted to, or obtained by, the EPA is claimed to be CBI by persons submitting data to the EPA. Information submitted under such a claim is handled in accordance with the EPA's regulations at 40 CFR part 2, subpart B, and in accordance with the EPA procedures that are consistent with those regulations. When the EPA has determined that disclosure of information claimed as CBI to EPA contractors or subcontractors is necessary, the corresponding contract must address the appropriate use and handling of the information by the EPA contractor and subcontractors and the EPA contractor and subcontractors must require its personnel who require access to information claimed as CBI to sign written non-disclosure agreements before they are granted access to data.

In accordance with 40 CFR 2.301(h), the EPA has determined that EPA contractor Eastern Research Group, Incorporated (ERG), 14555 Avion Parkway, Suite 200, Chantilly, VA 20151, and ERG subcontractors PG Environmental, LLC; Aleksandrich Compliance & Engineering Services, LLC; Clearstone Engineering Ltd.; Process Profiles; and Matrix New World Engineering (collectively referred to as “subcontractors” in this notice) require access to CBI submitted to the EPA under Section 114 of the CAA, Section 208 of the CAA, and the APPS for the work they perform under Contract Number 68HERC21D0007. We are providing notice and an opportunity to comment on their access to information claimed as CBI. We are issuing this Federal Register notice to inform all affected submitters that we plan to grant access to material that may be claimed as CBI to ERG and its subcontractors on a need-to-know basis.

Under Contract Number 68HERC21D0007, ERG provides enforcement support for the EPA's regulatory and enforcement activities, including field inspections, investigations, audits, and other CAA regulatory and enforcement support that involve access to information claimed as CBI. ERG also employs subcontractors, who support these activities, under the above-listed contract. ERG and its subcontractors require access to information claimed as CBI to support EPA enforcement activities described above. Access to data, including information claimed as CBI, will commence six days after the date of publication of this notice in the Federal Register, and will continue until March 9, 2026. If the contract and associated subcontracts are extended, this access will continue for the remainder of the ERG contract without further notice. If the contract expires prior to March 9, 2026, the access will cease at that time. If ERG employs additional subcontractors to support the EPA on a regular basis or on a limited or one-time basis under the above-listed contract, and those subcontractors require access to CBI, the EPA will notify affected companies of the contemplated disclosure and provide them with an opportunity to comment by either sending them a letter or by publishing an additional notice in the Federal Register.

Parties who wish to obtain further information about this Federal Register notice, or about OECA's disclosure of information claimed as CBI to ERG and its subcontractors, may contact the person listed under FOR FURTHER INFORMATION CONTACT.

Dated: September 15, 2021.
Evan Belser,
Acting Director, Air Enforcement Division.

[FR Doc. 2021-20560 Filed 9-22-21; 8:45 am]

BILLING CODE 6560-50-P